SECURITIES AND EXCHANGE COMMISSION

[Release No. 34-66308; File No. SR-NYSEAmex-2012-02]

Self-Regulatory Organizations; NYSE Amex LLC; Notice of Filing and Immediate Effectiveness of Proposed Rule Change Amending NYSE Amex Options Rule 902NY To Create a Reserve Floor Market Maker Amex Trading Permit

AGENCY: Securities and Exchange Commission.

ACTION: Notice; correction.

SUMMARY: The Securities and Exchange Commission published a document in the Federal Register on January 31, 2012 concerning a Notice of Filing and Immediate Effectiveness of Proposed Rule Change Amending NYSE Amex Options Rule 902NY To Create a Reserve Floor Market Maker Amex Trading Permit by NYSEAmex LLC. An incorrect release number was assigned to that document.

FOR FURTHER INFORMATION CONTACT: Office of the Secretary, Securities and Exchange Commission, 100 F Street NE., Washington, DC 20549, (202) 551-5400.

Correction

In the Federal Register of January 31, 2012, in FR Doc. 2012-2036, on page 4848, in the middle column, in the 14th line, the release number is corrected to read as noted above.

Dated: February 2, 2012.
Kevin M. O'Neill,
Deputy Secretary.

[FR Doc. 2012-2812 Filed 2-7-12; 8:45 am]

BILLING CODE 8011-01-P